DEPARTMENT OF AGRICULTURE

Animal and Plant Health Inspection Service

7 CFR Part 319

[Docket No. 00-003-1]

Mexican Hass Avocado Import Program

AGENCY: Animal and Plant Health Inspection Service, USDA.

ACTION: Request for comments.

SUMMARY: The Government of Mexico has requested that the Animal and Plant Health Inspection Service consider amending its regulations regarding the importation of Hass avocado fruit from Mexico to expand the number of States in which the fruit may be distributed and to increase the length of the shipping season during which Hass avocados may be imported into the United States. In this notice, we are asking the public for its comments and recommendations regarding the scope of our review and are soliciting any additional data or information that may have a bearing on our review of the Mexican Government's request. We will use any information gathered through this notice as we consider the Mexican Government's request that we expand the length of the shipping season during which, and the number of approved States into which, Mexican Hass avocados may be imported into the United States.

DATES: We invite you to comment on this docket. We will consider all comments that we receive by August 9, 2000.

ADDRESSES: Please send your comment and three copies to:

Docket No. 00-003-1, Regulatory Analysis and Development, PPD, APHIS, Suite 3C03, 4700 River Road Unit 118, Riverdale, MD 20737-1238.

Please state that your comment refers to Docket No. 00-003-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Wayne D. Burnett, Senior Import Specialist, Phytosanitary Issues Management Team, PPQ, APHIS, 4700 River Road Unit 140, Riverdale, MD 20737-1236; (301) 734-6799.

SUPPLEMENTARY INFORMATION:

Background

The regulations in “Subpart Fruits and Vegetables” (7 CFR 319.56 through 319.56-8) prohibit or restrict the importation of fruits and vegetables into the United States from certain parts of the world to prevent the introduction and dissemination of plant pests, including fruit flies, that are new to or not widely distributed within the United States.

Under the regulations in 7 CFR 319.56-2ff, fresh Hass avocado fruit grown in approved orchards in approved municipalities in Michoacan, Mexico, may be imported into specified areas of the United States, subject to certain conditions. Currently, those regulations allow Mexican Hass avocados to be imported into the United States only during the months of November, December, January, and February. Further, the fruit may only be distributed in the following northeastern States: Connecticut, Delaware, the District of Columbia, Illinois, Indiana, Kentucky, Maine, Maryland, Massachusetts, Michigan, New Hampshire, New Jersey, New York, Ohio, Pennsylvania, Rhode Island, Vermont, Virginia, West Virginia, and Wisconsin.

The Government of Mexico has requested that the Animal and Plant Health Inspection Service (APHIS) amend the regulations regarding the importation of Mexican Hass avocados to (1) increase the number of States into which the avocados may be imported and (2) to allow the shipping season to begin 1 month earlier (October rather than November) and end 1 month later (March rather than February).

With regard to increasing the number of approved States, Mexico has asked that we consider allowing Hass avocados to be imported into additional northern-tier States that, like the currently approved northeastern States, do not contain host material for any of the avocado-specific pests of concern identified in the regulations and that have climatic conditions that do not support the establishment of fruit flies. The Mexican Government has not yet identified the specific States that it believes might meet those criteria, and we anticipate that Mexico would seek additional information from APHIS before making such a specific request.

Studies conducted by the U.S. Department of Agriculture's Agricultural Research Service have shown that the Mexican fruit fly is less active and oviposits less at temperatures below 70 °F. Median temperatures in the Michoacan production areas during the current shipping season of November through February are consistently below 70 °F, thus the climate is not favorable to fruit fly activity during those months. In establishing the current November through February shipping season, we considered the unfavorable climate in the Michoacan production areas along with the Hass avocado's non-preferred host status and concluded that the infestation threat posed to the avocados by Anastrepha spp. fruit flies would be insignificant. In requesting the lengthened shipping season, the Mexican Government has stated that the median temperatures in the Michoacan production areas during October and March are consistently below 70 °F, just as is the case during the current November through February shipping season. Preliminary temperature data provided by Mexico covering the years 1990 through 1999 indicate that only once during that period did the median temperature rise above 70 °F during October or March (72.3 °F, recorded at the Comision Nacional del Agua climate monitoring station in the municipality of Periban, Michoacan, in March 1992).

In our review of the Mexican Government's request, we anticipate that we will consider information such as the pest risk assessment and risk management analysis prepared for the rulemaking that established the current program; fruit fly trapping data and pest survey data from the growing area; fruit cutting data from both the packinghouses in Mexico and the U.S. port-of-entry inspections; temperature data for the production areas in Mexico, the currently approved States, and any States that might be added; and the results of APHIS' most recent comprehensive review of the Mexican Hass avocado program. Copies of this information may be obtained by calling or writing to the person listed under FOR FURTHER INFORMATION CONTACT.

We are asking the public for its comments and recommendations regarding the scope of our review and are soliciting any additional data or information that may have a bearing on our review of the Mexican Government's request. We wish to emphasize the preliminary nature of our review; we are not, at this time, proposing to make any changes to the provisions of the current Mexican avocado import program found in § 319.56-2ff. We would, therefore, ask that any comments focus on the scientific, technical, or other issues that commenters believe should be considered during our review of the Mexican Government's request.

If, after completing our review of the available data and any pertinent information submitted by the public, we conclude that there are sufficient data available to support Mexico's request, APHIS will prepare a proposed rule for public comment before making any final decision to approve additional States to receive Mexican Hass avocados or to expand the shipping season to include the months of October and March.

Authority: 7 U.S.C. 150dd, 150ee, 150ff, 151-167, 450, 2803, and 2809; 21 U.S.C. 136 and 136a.

Done in Washington, DC, this 8th day of May 2000.
Bobby R. Acord,
Acting Administrator, Animal and Plant Health Inspection Service.

[FR Doc. 00-11835 Filed 5-10-00; 8:45 am]

BILLING CODE 3410-34-P